DEPARTMENT OF TRANSPORTATION

Federal Aviation Administration

14 CFR Part 71

[Docket No. FAA-2021-0044; Airspace Docket No. 19-AWP-25]

RIN 2120-AA66

Modification of Class D and Class E Airspace; Bakersfield, CA

AGENCY: Federal Aviation Administration (FAA), DOT.

ACTION: Final rule.

SUMMARY: This action modifies the Class D airspace at Meadows Field Airport, Bakersfield, CA. This action also modifies the Class E airspace designated as a surface area and the Class E airspace extending upward from 700 feet above the surface. Further, this action removes the Class E airspace extending upward from 1,200 feet above the surface. Additionally, this action updates the term “Airport/Facility Directory” to “Chart Supplement” in the last sentence of the Class D and Class E2 airspace descriptions. Finally, this action implements several administrative corrections to the Class D, Class E2, and Class E5 text headers.

DATES: Effective 0901 UTC, August 12, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies the Class D and Class E airspace at Meadows Field Airport, Bakersfield, CA, to ensure the safety and management of instrument flight rules (IFR) operations at the airport.

History

The FAA published a notice of proposed rulemaking in the Federal Register (86 FR 13242; March 8, 2021) for Docket No. FAA-2021-0044 to modify the Class D and Class E airspace at Meadows Field Airport, Bakersfield, CA. Interested parties were invited to participate in this rulemaking effort by submitting written comments on the proposal to the FAA. No comments were received.

Class D, E2, and E5 airspace designations are published in paragraphs 5000, 6002, and 6005, respectively, of FAA Order 7400.11E, dated July 21, 2020, and effective September 15, 2020, which is incorporated by reference in 14 CFR 71.1. The Class D and E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This amendment to 14 CFR part 71 modifies the Class D airspace at Meadows Field Airport, Bakersfield, CA. The Class D is not sized properly to contain IFR arrivals descending below 1,000 feet above the surface, or IFR departures to 700 feet above the surface. To properly contain IFR arrivals, the circular radius should be reduced from 5 miles to 4.5 miles. To properly contain IFR departures flying toward or over rising terrain, three areas should be added to the circular radius, one area southeast and two areas northwest of the airport.

This action also modifies the lateral boundaries of the Class E airspace, designated as a surface area, to be coincident with the Class D airspace area.

The action modifies the Class E airspace extending upward from 700 feet above the surface. The airspace is not sized properly to contain IFR arrivals descending below 1,500 feet above the surface, or IFR departures to 1,200 feet above the surface. This airspace area is reduced southeast of the airport and increased northwest of the airport.

Further, this action removes the Class E airspace extending upward from 1,200 feet above the surface. This airspace area is wholly contained within the Los Angeles en route airspace area, and duplication is not necessary.

Additionally, this action updates the last sentence in the Class D and Class E2 airspace descriptions by replacing the term “Airport/Facility Directory” with “Chart Supplement.”

Lastly, the action implements several administrative updates. The second line of the Class D, Class E2, and Class E5 text headers includes the city name “Bakersfield”. The city name should be removed from this line of text. The airport's geographic coordinates listed in the third line of the Class D, Class E2, and Class E5 text header do not match the FAA's database. The coordinates should be updated to lat. 35°26′02″ N, long. 119°03′28″ W.

FAA Order 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

AWP CA D Bakersfield, CA [Amended]

Meadows Field Airport, CA

(Lat. 35°26′02″ N, long. 119°03′28″ W)

That airspace extending upward from the surface to and including 3,000 feet MSL within a 4.5-mile radius of the airport, and within 1.8 miles each side of the 134° bearing from the airport, extending from the 4.5-mile radius to 5.5 miles southeast of the airport, and within 1.8 miles each side of the 316° bearing from the airport, extending from the 4.5-mile radius to 5.3 miles northwest of the airport, and within 1.9 miles each side of the 331° bearing from the airport, extending from the 4.5-mile radius to 6.8 miles northwest of Meadows Field Airport. This Class D airspace area is effective during the specific dates and times established in advance by a Notice to Airmen. The effective date and time will thereafter be continuously published in the Chart Supplement.

Paragraph 6002 Class E Airspace Designated as a Surface Area.

* * * * *

AWP CA E2 Bakersfield, CA [Amended]

Meadows Field Airport, CA

(Lat. 35°26′02″ N, long. 119°03′28″ W)

That airspace extending upward from the surface within a 4.5-mile radius of the airport, and within 1.8 miles each side of the 134° bearing from the airport, extending from the 4.5-mile radius to 5.5 miles southeast of the airport, and within 1.8 miles each side of the 316° bearing from the airport, extending from the 4.5-mile radius to 5.3 miles northwest of the airport, and within 1.9 miles each side of the 331° bearing from the airport, extending from the 4.5-mile radius to 6.8 miles northwest of Meadows Field Airport. This Class E airspace area is effective during the specific dates and times established in advance by a Notice to Airmen. The effective date and time will thereafter be continuously published in the Chart Supplement.

Paragraph 6005 Class E Airspace Areas Extending Upward From 700 Feet or more above the Surface of the Earth.

* * * * *

AWP CA E5 Bakersfield, CA [Amended]

Meadows Field Airport, CA

(Lat. 35°26′02 ″ N, long. 119°03′28″ W)

That airspace extending upward from 700 feet above the surface within an 8-mile radius of the airport, and within 3.8 miles east and 8.8 miles west of the 337° bearing from the airport, beginning 3.5 miles northwest of the airport and extending to 19.6 miles northwest of Meadows Field Airport.

Issued in Des Moines, Washington, on May 28, 2021.
B.G. Chew,
Acting Group Manager, Operations Support Group, Western Service Center.

[FR Doc. 2021-11767 Filed 6-4-21; 8:45 am]

BILLING CODE 4910-13-P